FEDERAL COMMUNICATIONS COMMISSION

47 CFR Chapter I

[GC Docket No. 11-199; DA 11-2002]

Preliminary Plan for Retrospective Analysis of Existing Rules

AGENCY: Federal Communications Commission.

ACTION: Notice of availability.

SUMMARY: This document seeks comment on the Commission's preliminary plan for retrospective analysis of existing rules. The Commission prepared this preliminary plan consistent with the President's Executive Order 13579 encouraging independent agencies to engage in such retrospective review in order to identify unnecessary or unduly burdensome regulations that may be hindering job creation and economic development. The Commission seeks input from the public on all aspects of its preliminary plan.

DATES: Comments may be filed on or before February 8, 2012, and reply comments may be filed on or before February 22, 2012.

ADDRESSES: You may submit comments, identified by GC Docket No. 11-199, by any of the following methods:

■ Federal Communications Commission's Web Site: http://fjallfoss.fcc.gov/ecfs2/. Follow the instructions for submitting comments.

■ Mail: See the SUPPLEMENTARY INFORMATION section of this document.

■ People with Disabilities: Contact the FCC to request reasonable accommodations (accessible format documents, sign language interpreters, CART, etc.) by email: FCC504@fcc.gov or phone: (202) 418-0530 or TTY: (202) 418-0432.

For detailed instructions for submitting comments and additional information, see the SUPPLEMENTARY INFORMATION section of this document.

FOR FURTHER INFORMATION CONTACT: For further information regarding this proceeding, contact Jennifer Tatel, Office of General Counsel, (202) 418-1700.

SUPPLEMENTARY INFORMATION: This is a summary of a Public Notice released by the Office of General Counsel on December 8, 2011. The full text of this document is available for public inspection and copying during regular business hours in the Commission's Reference Information Center, Portals II, 445 12th Street SW., Room CY-A257, Washington, DC 20554. The complete text of this document also may be purchased from the Commission's copy contractor, Best Copy and Printing, Inc., Portals II, 445 12th Street SW., Room CY-B402, Washington, DC 20554, telephone (202) 488-5300, facsimile (202) 488-5563 or via email FCC@BCPIWEB.com. The full text may also be downloaded at http://www.fcc.gov. Pursuant to §§ 1.415 and 1.419 of the Commission's rules, 47 CFR 1.415, 1.419, interested parties may file comments and reply comments on or before the dates indicated on the first page of this document. Comments may be filed using the Commission's Electronic Comment Filing System (ECFS). See Electronic Filing of Documents in Rulemaking Proceedings, 63 FR 24121 (1998).

■ Electronic Filers: Comments may be filed electronically using the Internet by accessing the ECFS: http://fjallfoss.fcc.gov/ecfs2/.

■ Paper Filers: Parties who choose to file by paper must file an original and one copy of each filing. If more than one docket or rulemaking number appears in the caption of this proceeding, filers must submit two additional copies for each additional docket or rulemaking number.

Filings can be sent by hand or messenger delivery, by commercial overnight courier, or by first-class or overnight U.S. Postal Service mail. All filings must be addressed to the Commission's Secretary, Office of the Secretary, Federal Communications Commission.

■ All hand-delivered or messenger-delivered paper filings for the Commission's Secretary must be delivered to FCC Headquarters at 445 12th St. SW., Room TW-A325, Washington, DC 20554. The filing hours are 8 a.m. to 7 p.m. All hand deliveries must be held together with rubber bands or fasteners. Any envelopes and boxes must be disposed of before entering the building.

■ Commercial overnight mail (other than U.S. Postal Service Express Mail and Priority Mail) must be sent to 9300 East Hampton Drive, Capitol Heights, MD 20743.

■ U.S. Postal Service first-class, Express, and Priority mail must be addressed to 445 12th Street SW., Washington, DC 20554.

Documents will be available for public inspection and copying during business hours at the FCC Reference Information Center, Portals II, Room CY-A257, 445 12th Street SW., Washington, DC 20554. The documents may also be purchased from BCPI, telephone (202) 488-5300, facsimile (202) 488-5563, TTY (202) 488-5562, email fcc@bcpiweb.com.

People with Disabilities: To request materials in accessible formats for people with disabilities (braille, large print, electronic files, audio format), send an email to fcc504@fcc.gov or call the Consumer & Governmental Affairs Bureau at (202) 418-0530 (voice), (202) 418-0432 (tty). The Commission has designated this proceeding as a “permit-but-disclose” proceeding in accordance with the Commission's ex parte rules. 47 CFR 1.1200 et seq.; Amendment of Certain of the Commission's Part 1 Rules of Practice and Procedure and Part 0 Rules of Commission Organization, Notice of Proposed Rulemaking, 25 FCC Rcd 2430, 2439-40 (2010). Persons making ex parte presentations must file a copy of any written presentation or a memorandum summarizing any oral presentation within two business days after the presentation (unless a different deadline applicable to the Sunshine period applies). Persons making oral ex parte presentations are reminded that memoranda summarizing the presentation must (1) list all persons attending or otherwise participating in the meeting at which the ex parte presentation was made, and (2) summarize all data presented and arguments made during the presentation. If the presentation consisted in whole or in part of the presentation of data or arguments already reflected in the presenter's written comments, memoranda or other filings in the proceeding, the presenter may provide citations to such data or arguments in his or her prior comments, memoranda, or other filings (specifying the relevant page and/or paragraph numbers where such data or arguments can be found) in lieu of summarizing them in the memorandum. Documents shown or given to Commission staff during ex parte meetings are deemed to be written ex parte presentations and must be filed consistent with § 1.1206(b) of the Commission's rules. In proceedings governed by § 1.49(f) of the Commission's rules or for which the Commission has made available a method of electronic filing, written ex parte presentations and memoranda summarizing oral ex parte presentations, and all attachments thereto, must be filed through the electronic comment filing system available for that proceeding, and must be filed in their native format (e.g., .doc, .xml, .ppt, searchable .pdf). Participants in this proceeding should familiarize themselves with the Commission's ex parte rules.

Summary of Public Notice

This Public Notice seeks comment on the Commission's Preliminary Plan for Retrospective Analysis of Existing Rules, released on November 7, 2011. The Preliminary Plan describes the Commission's ongoing process of identifying outmoded or counterproductive rules and provides an overview of recent and current proceedings that include retrospective analysis. The Commission seeks comment generally on the Preliminary Plan.

The Commission is committed to being a responsive, efficient and effective agency that harnesses and promotes the technological and economic opportunities of the new millennium. As part of the Commission's goal to be a model of excellence in government, the agency has, since 2009, undertaken far-reaching initiatives designed to achieve its statutory objectives while removing burdens on industry and promoting innovation and job growth.

In furtherance of these objectives, the Commission seeks comment on the following questions: What additional steps should the Commission take to identify rules that should be changed, streamlined, consolidated, or removed? How can the Commission further reduce burdens on industry and consumers while fostering competition, diversity and innovation? Are there Commission rules or reporting requirements that are duplicative or that have conflicting requirements among its bureaus and offices or with other agencies? Are there Commission rules or reporting requirements that could be modified to better accomplish their regulatory objectives? In addition, commenters are encouraged to submit other suggestions that may help the Commission develop better regulations and processes. Commenters are asked to specifically identify the rules or reporting requirements they are addressing and to provide specific suggestions for ways the Commission should modify such rules or reporting requirements, including alternative language where possible.

Federal Communications Commission.
Julie A. Veach,
Deputy General Counsel, Office of General Counsel.

[FR Doc. 2011-33014 Filed 12-27-11; 8:45 am]

BILLING CODE 6712-01-P